DEPARTMENT OF LABOR

Employment and Training Administration

[TA-W-65,880]

Carpenter Company, Cookeville, TN; Notice of Termination of Investigation

Pursuant to Section 221 of the Trade Act of 1974, as amended, an investigation was initiated on May 4, 2009, in response to a petition filed on behalf of workers at the Carpenter Company, Cookeville, Tennessee.

The petitioners have requested that the petition be withdrawn. Consequently, the investigation has been terminated.

Signed at Washington, DC this 12th day of May 2009.
Elliott S. Kushner,
Certifying Officer, Division of Trade Adjustment Assistance.

[FR Doc. E9-13918 Filed 6-12-09; 8:45 am]

BILLING CODE 4510-FN-P